DEPARTMENT OF COMMERCE

Foreign-Trade Zones Board

[Order No. 1326]

Grant of Authority for Subzone Status; Perrigo Company Manufacturing Plant (Pharmaceutical Products), Battle Creek, Michigan Area

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved; and when the activity results in a significant public benefit and is in the public interest;

Whereas, the City of Battle Creek, Michigan, grantee of FTZ 43, has made application to the Board for authority to establish special-purpose subzone status at the pharmaceutical product manufacturing plant of the Perrigo Company, located in the Battle Creek, Michigan, area (FTZ Docket 24-2003, filed 5/13/03, and amended 7/10/03);

Whereas, notice inviting public comment has been given in the Federal Register (68 FR 27985, 5/22/03); and,

Whereas, the Board adopts the findings and recommendations of the examiner's report, and finds that the requirements of the FTZ Act and the Board's regulations are satisfied, and that approval of the application is in the public interest;

Now, therefore, the Board hereby grants authority for subzone status at the pharmaceutical product manufacturing facilities of the Perrigo Company, located in the Battle Creek, Michigan area (Subzone 43D), at the locations described in the application, as amended, subject to the FTZ Act and the Board's regulations, including § 400.28.

Signed in Washington, DC, this 13th day of April, 2004.
Jeffrey A. May,
Acting Assistant Secretary of Commerce for Import Administration, Alternate Chairman, Foreign-Trade Zones Board.

[FR Doc. 04-9056 Filed 4-20-04; 8:45 am]

BILLING CODE 3510-DS-P